INTERNATIONAL TRADE COMMISSION

[Investigation No. 337-TA-819]

Certain Semiconductor Chips With Dram Circuitry, and Modules and Products Containing Same: Notice of Commission Determination To Terminate the Investigation Based on Settlement

AGENCY: U.S. International Trade Commission.

ACTION: Notice.

SUMMARY: Notice is hereby given that the U.S. International Trade Commission has determined to terminate the above-captioned investigation based on a settlement agreement between the parties.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on December 21, 2011, based on a complaint filed by Elpida Memory, Inc., of Tokyo, Japan, and Elpida Memory (USA) Inc. of Sunnyvale, California (collectively, “Elpida”). 76 FR 79215 (Dec. 21, 2011). The complaint alleged violations of section 337 of the Tariff Act of 1930, as amended (19 U.S.C. 1337), based on infringement of several U.S. patents. The notice of investigation named Nanya Technology Corporation of Tao Yuan, Taiwan, and Nanya Technology Corporation, U.S.A. of Santa Clara, California (collectively, “Nanya”), as respondents. The Office of Unfair Import Investigations did not participate in the investigation.

On March 26, 2013, the ALJ issued a final initial determination (“ID”) finding a violation of section 337 with respect to several patents but not with respect to U.S. Patent No. 7,659,571 (“the '571 patent”). On April 8, 2013, complainant Elpida and Nanya filed petitions for review of certain portions of the ID but not for review of the determination of no violation with respect to the '571 patent. On July 2, 2013, the Commission determined not to review the determination of no violation with respect to the '571 patent and that determination became final. The Commission determined to review the remainder of the ID and requested certain briefing from the parties and from the public.

On July 31, 2013, the parties jointly moved for termination of the investigation based on a settlement agreement.

The Commission has determined that the motion to terminate the investigation based on a settlement agreement complies with Commission Rule 210.21 (19 CFR 210.21). The Commission has further determined that terminating the investigation based on the settlement agreement between Elpida and Nanya is not contrary to the public interest. Accordingly, the Commission has determined to grant the joint motion and terminate the investigation.

The issues previously under review by the Commission are now moot in view of the parties' settlement. The portions of the ID previously under review by the Commission do not constitute a Commission determination and have been set aside. See Commission Rule 210.45(c) (19 CFR 210.45(c)).

The authority for the Commission's determination is contained in section 337 of the Tariff Act of 1930, as amended (19 U.S.C. 1337), and in Part 210 of the Commission's Rules of Practice and Procedure (19 CFR Part 210).

By order of the Commission.
Issued: August 22, 2013.
Lisa R. Barton,
Acting Secretary to the Commission.

[FR Doc. 2013-20952 Filed 8-27-13; 8:45 am]

BILLING CODE 7020-02-P